DEPARTMENT OF TRANSPORTATION

Federal Aviation Administration

Meeting: RTCA Program Management Committee (PMC)

AGENCY: Federal Aviation Administration (FAA), U.S. Department of Transportation (DOT).

ACTION: Notice of RTCA Program Management Committee Meeting.

SUMMARY: The FAA is issuing this notice to advise the public of a RTCA Program Management Committee meeting.

DATES: The meeting will be held September 22nd from 8:30 a.m.-4:30 p.m.

ADDRESSES: The meeting will be held at RTCA Headquarters, 1150 18th Street NW., Suite 910, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a) (2) of the Federal Advisory Committee Act (Pub. L. 92-463, 5 U.S.C., App.), notice is hereby given for a meeting of the RTCA Program Management Committee. The agenda will include the following:

Tuesday, September 22, 2015

1. WELCOME AND INTRODUCTIONS

2. REVIEW/APPROVE

a. Meeting Summary June 18, 2015, RTCA Paper No. 181-15/PMC-1362

b. Administrative SC TOR Revisions

i. SC-224—Airport Security Access Control Systems—New Co-Chair

ii. SC-235—Non-Rechargeable Lithium Batteries—New Chair

3. PUBLICATION CONSIDERATION/APPROVAL

a. Final Draft, Revised Document, DO-328—Safety, Performance and Interoperability Requirements Document for Airborne Spacing—Flight-deck Interval Management (ASPA-FIM), prepared by SC-186

b. Final Draft, New Document, MOPS for Flight-deck Interval Management (FIM), prepared by SC-186

c. Final Draft, Revised Document, DO-272C—User Requirements for Aerodrome Mapping Information, prepared by SC-217

d. Final Draft, Revised Document, DO-276B—User Requirements for Terrain and Obstacle Data, prepared by SC-217

e. Final Draft, Revised Document, DO-291B—Interchange Standards for Terrain, Obstacle and Aerodrome Mapping Data, prepared by SC-217

f. Final Draft, White Paper, Standards Development Activities for using Near Real-Time Aircraft-Derived Data in Future Applications, prepared by Wake Vortex Tiger Team

4. INTEGRATION and COORDINATION COMMITTEE (ICC)

a. ICC Membership—Update/Approval—Discussion

5. ACTION ITEM REVIEW

a. Workshop—Integrated Cockpit—Integrated Standards: Cross-Cutting Committee—Update

b. PMC Ad-Hoc to provide SC-225 perceived shortfalls in DO-311 revision—Update

c. PMC Ad-Hoc MASPS vs. guidance “discontinuity” between RTCA and EUROCAE documentation—Discussion

d. Response to Lockheed Martin's input to speed up MOPS in SC-159 TOR—Discussion

e. Follow up discussion with FAA on cybersecurity concerns to be included in SC-159 TOR—Discussion

f. Industry Interest in Runway Overrun Alerting—possible new Special Committee (SC)—Discussion

g. UPS GPS issue—Update

6. DISCUSSION

a. SC-147—MOPS for Traffic Alert and Collision Avoidance Systems Airborne Equipment—Discussion—Revised TOR

b. SC-217—Aeronautical Databases—Discussion—Revised TOR

c. SC-223—Aeronautical Mobile Airport Communication System—Discussion—Revised TOR

d. SC-228—Minimum Operational Performance Standards (MOPS) for Unmanned Aircraft Systems, initial release, MOPS for Unmanned Aircraft Systems (UAS) Command and Control (C2)—Discussion

e. SC-228—MOPS for Unmanned Aircraft Systems, initial release, MOPS for Unmanned Aircraft Systems (UAS) Detect and Avoid (DAA) Systems—Discussion

f. SC-228—MOPS for Unmanned Aircraft Systems, initial release, MOPS for Air-to-Air Radar for Detect and Avoid—Discussion

g. SC-230—Airborne Weather Detection Systems—Discussion—Revised TOR

h. SC-234—Portable Electronic Devices—Discussion—Status Update

i. Design Assurance Guidance for Airborne Electronic Hardware—Status—Possible New Special Committee to Update RTCA DO-254

j. NAC—Status Update

k. TOC—Status Update

l. FAA Actions Taken on Previously Published Documents—Report

m. Special Committees—Chairmen's Reports and Active Inter-Special Committee Requirements Agreements (ISRA)—Review

n. European/EUROCAE Coordination—Status Update

o. Planning Forward—Discussion

7. OTHER BUSINESS

8. SCHEDULE for COMMITTEE DELIVERABLES and NEXT MEETING DATE

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 25, 2015.
Latasha Robinson,
Management & Program Analyst, Next Generation, Enterprise Support Services Division, Federal Aviation Administration.

[FR Doc. 2015-21418 Filed 8-27-15; 8:45 am]

BILLING CODE 4910-13-P